DEPARTMENT OF JUSTICE

Notice of Lodging of Proposed Modification of Consent Decree Under the Clean Air Act

On March 30, 2016, the Department of Justice lodged a proposed stipulation to modify a Consent Decree with the United States District Court for the Eastern District of Wisconsin in the lawsuit entitled United States v. Wisconsin Public Service Corporation, Civil Case No. 13-C-10 (E.D. Wis.).

The original Consent Decree resolved alleged violations of the New Source Review and Title V provisions of the Clean Air Act (“Act”), 42 U.S.C. 7470-92 and 7661a-7661f, at two coal-fired power plants owned and operated by Wisconsin Public Service Corp (“Defendant”): the Weston plant located in Marathon County, Wisconsin, and the Pulliam plant located in Brown County, Wisconsin. The proposed modifications would: (1) Facilitate the Defendant's decision to convert a unit at the Weston plant from burning coal to natural gas, thereby reducing particulate matter (“PM”) emissions such that the operation of certain PM controls at that unit is no longer necessary to achieve the PM reductions secured by the Decree; (2) replace a hydroelectric environmental mitigation project that was deemed unworkable with a new land acquisition and restoration project and an expansion of an existing wood stove replacement program; and (3) revise and update certain administrative notice and certification requirements.

The publication of this notice opens a period for public comment on the proposed modifications to the Consent Decree. Comments should be addressed to the Assistant Attorney General, Environment and Natural Resources Division, and should refer to United States v. Wisconsin Public Service Corporation, Civil Case No. 13-C-10 (E.D. Wis.), D.J. Ref. No. 90-5-2-1-1230/1. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the proposed stipulation to modify the Consent Decree may be examined and downloaded at this Justice Department Web site: https://www.justice.gov/enrd/consent-decrees. We will provide a paper copy of the proposed stipulation upon written request and payment of reproduction costs. Please mail your request and payment to: Consent Decree Library, U.S. DOJ—ENRD, P.O. Box 7611, Washington, DC 20044-7611.

Please enclose a check or money order for $6.75 (25 cents per page reproduction cost) payable to the United States Treasury.

Randall M. Stone,
Acting Assistant Section Chief, Environmental Enforcement Section, Environment and Natural Resources Division.

[FR Doc. 2016-07912 Filed 4-6-16; 8:45 am]

BILLING CODE 4410-15-P